DEPARTMENT OF HEALTH AND HUMAN SERVICES

Centers for Disease Control and Prevention

[Program Announcement 02106]

Expansion of HIV/Prevention Activities in Malawi; Notice of Award of Funds

A. Purpose

The Centers for Disease Control and Prevention (CDC) announces the award of fiscal year (FY) 2002 funds for a cooperative agreement program for Global AIDS Program (GAP).

The purpose of the program is to provide assistance in planning, developing, implementing, and managing an HIV/AIDS Surveillance program for the control of HIV/AIDS in the country of Malawi, to support national level Voluntary Counseling and Testing (VCT) activities, and to implement the first step in support of a computerized information management system for HIV/AIDS at the National AIDS Commission (NAC).

Measurable outcomes of the program will be in alignment with one or more of the following performance goals for the GAP. Working with other countries, USAID, international, and U.S. government agencies, reduce the number of new HIV infections among 15 to 24 year olds in sub-Saharan Africa from an estimated 2 million by 2005.

B. Eligible Applicants

Assistance will be provided only to the NAC of the Country of Malawi. No other applications are solicited.

This announcement is restricted to the NAC because it is a unique agency designated by the Government of Malawi to develop, coordinate, and fund Human Immunodeficiency Virus (HIV/AIDS) prevention and care activities for the nation.

Note: Title 2 of the United States Code, Chapter 26, Section 1611 states that an organization described in section 501(c)(4) of the Internal Revenue Code of 1986 that engages in lobbying activities is not eligible to receive Federal funds constituting an award, grant, cooperative agreement, contract, loan, or any other form.

C. Funds

Approximately $725,000 is being awarded in FY 2002 to fund one award. The award began July 15, 2002 and will be made for a 12 month budget period within a project period of up to three years. Funding estimates may change.

Continuation awards within an approved project period will be made on the basis of satisfactory progress as evidenced by required reports and the availability of funds.

D. Where To Obtain Additional Information

This and other CDC announcements can be found on the CDC home page Internet address— http://www.cdc.gov Click on “Funding” then “Grants and Cooperative Agreements.”

To obtain business management technical assistance, contact: Cynthia Collins, Grants Management Specialist, Procurement and Grants Office, Centers for Disease Control and Prevention, 2920 Brandywine Road, Room 3000, Atlanta, GA 30341-4146, Telephone Number: (770) 488-2782, e-mail Address: dpr7@cdc.gov.

For program technical assistance, contact: Margarett Davis, MD, MPH, Kang'ombe Building 8 West, Lilongwe, Malawi, Telephone number: 265-775-188, Fax number: 265-775-848, Mobile: 265-960-152, e-mail Address: mdavis@cdc.gov. Mailing address: c/o U.S. Embassy, PO Box 30016.

Dated: October 9, 2002.
Edward Schultz,
Acting Director, Procurement and Grants Office, Center for Disease Control and Prevention.

[FR Doc. 02-26531 Filed 10-17-02; 8:45 am]

BILLING CODE 4163-18-P